FEDERAL COMMUNICATIONS COMMISSION

47 CFR Part 1

[GC Docket No. 10-43; FCC 11-11]

Commission's Ex Parte Rules and Other Procedural Rules

AGENCY: Federal Communications Commission.

ACTION: Final rule; announcement of effective date.

SUMMARY: The Federal Communications Commission published a document in the Federal Register at 76 FR 24376, May 2, 2011, which contained information collection requirements. The Office of Management and Budget (OMB) gave approval on May 16, 2011, for these information collection requirements contained in the Commission's Report and Order, Amendment of the Commission's Ex Parte Rules and Other Procedural Rules.

DATES: The amendments to §§ 1.1206(b) and 1.1208 that appeared in the Federal Register at 76 FR 24376 on May 2, 2011 as approved by OMB are effective June 1, 2011.

FOR FURTHER INFORMATION CONTACT: Joel Kaufman, 202-418-1758.

SUPPLEMENTARY INFORMATION: The Federal Communications Commission has received OMB approval for the ex parte rules and other procedural rules contained in information collection OMB Control No: 3060-0430, Section 1.1206, Permit-but-Disclose Proceedings. The information collection was revised in the Report and Order and Further Notice of Proposed Rulemaking in CG Docket No. 10-43 which appears at 76 FR 24376, May 2, 2011. The effective date of the rules adopted in that Order was published as June 1, 2011, except for §§ 1.1206(b) and 1.1208, which contain new or modified information collection requirements that would not be effective until approved by the Office of Management and Budget. Through this document, the Commission announces that it has received this approval (OMB Control No. 3060-0430, Expiration Date: November 30, 2011) and that §§ 1.1206(b) and 1.1208 are effective on June 1, 2011.

Pursuant to the Paperwork Reduction Act of 1995, Public Law 104-13, an agency may not conduct or sponsor a collection of information unless it displays a currently valid control number. Notwithstanding any other provisions of law, no person shall be subject to any penalty for failing to comply with a collection of information subject to the Paperwork Reduction Act (PRA) that does not display a valid control number. Questions concerning the OMB control numbers and expiration dates should be directed to Leslie F. Smith, Federal Communications Commission, (202) 418-0217, or via the Internet at Leslie.Smith@fcc.gov.

Federal Communications Commission.
Marlene H. Dortch,
Secretary.

[FR Doc. 2011-12994 Filed 5-25-11; 8:45 am]

BILLING CODE 6712-01-P